OFFICE OF THE UNITED STATES TRADE REPRESENTATIVE

[Docket No. USTR-2025-0004]

Notice of Change to Date for Public Hearing Relating to the Operation of the Agreement Between the United States of America, the United Mexican States, and Canada

AGENCY: Office of the United States Trade Representative (USTR).

ACTION: Notice of change to date for public hearing.

SUMMARY: In a notice published on September 17, 2025, USTR announced a public hearing relating to the operation of the Agreement between the United States of America, the United Mexican States, and Canada (USMCA), scheduled for November 17, 2025, in the main hearing room of the U.S. International Trade Commission. USTR is modifying the date of the public hearing. The public hearing will convene on December 3-5, 2025, in the main hearing room of the U.S. International Trade Commission.

DATES:

December 3-5, 2025: USTR will hold a public hearing in the main hearing room of the U.S. International Trade Commission, 500 E Street SW, Washington, DC 20436, beginning each day at 9 a.m. EST. If necessary, the hearing may continue the next business day.

Seven calendar days after the last day of the public hearing, at 11:59 p.m. EST: Deadline for submission of post-hearing rebuttal comments.

FOR FURTHER INFORMATION CONTACT: Randall Oliver, Director for Canada, at Randall.T.Oliver@ustr.eop.gov or 202.395.9449, or Braeden Young, Director for Mexico, at Braeden.P.Young@ustr.eop.gov or 202.395.9620.

SUPPLEMENTARY INFORMATION: In a notice published September 17, 2025, USTR commenced a public consultation process in advance of the joint review of the USMCA on July 1, 2026. See 90 FR 44870. This notice announced a public hearing on the operation of the USMCA, scheduled for November 17, 2025, at the U.S. International Trade Commission. USTR is modifying the date of the public hearing. The public hearing will convene on December 3-5, 2025, at 9:00 a.m. EST each day, in the main hearing room of the U.S. International Trade Commission, 500 E Street SW, Washington, DC 20436. Please visit USTR's website (www.ustr.gov) for any updates to the hearing schedule.

Post-hearing rebuttal comments, which should be limited to rebutting or supplementing testimony presented at the hearing, may be submitted within seven calendar days after the last day of the public hearing. Rebuttal comments must be submitted to the appropriate docket titled “Request for Comments on the Operation of the Agreement between the United States of America, the United Mexican States, and Canada,” docket number USTR-2025-0004, using the electronic portal at https://comments.ustr.gov/s/. All submissions must be in English. You may upload documents and indicate whether USTR should treat the documents as business confidential or public information. Any page containing BCI must be clearly marked “BUSINESS CONFIDENTIAL” on the top of that page and the submission should clearly indicate, via brackets, highlighting, or other means, the specific information that is BCI. If requesting confidential treatment, you must certify in writing that the information would not customarily be released to the public. Interested persons uploading attachments containing BCI also must submit a public version of their comments.

Daniel Watson,
Assistant U.S. Trade Representative for the Western Hemisphere, Office of the United States Trade Representative.

[FR Doc. 2025-19816 Filed 11-6-25; 8:45 am]

BILLING CODE 3390-F4-P